DEPARTMENT OF COMMERCE

National Oceanic and Atmospheric Administration

Public Scoping Period for the Proposed Designation of the Northwestern Hawaiian Islands National Marine Sanctuary; Reopening of Comment Period

AGENCY: National Marine Sanctuary Program (NMSP), National Ocean Service (NOS), National Oceanic and Atmospheric Administration (NOAA), Department of Commerce (DOC).

ACTION: Notice; request for comment; re-opening of comment period.

SUMMARY: The National Oceanic and Atmospheric Administration (NOAA) is re-opening, until August 6, 2002, the period for submission of public comments on the proposed designation of the Northwestern Hawaiian Islands National Marine Sanctuary.

DATES: Comments on the proposed designation must be received by close of business August 6, 2002.

ADDRESSES: Written comments may be sent to NWHI Coral Reef Ecosystem Reserve, 6700 Kalanianaole Highway, #215, Honolulu, Hawaii 96825; faxed to (808) 3972662; or emailed to nwhi@noaa.gov. Comments will be available for public review at the office address above.

FOR FURTHER INFORMATION CONTACT: Aulani Wilhelm, (808) 397-2657, nwhi@noaa.gov.

SUPPLEMENTARY INFORMATION: On December 4, 2000, Executive Order 13178 established the Northwestern Hawaiian Islands Coral Reef Ecosystem Reserve, pursuant to the National Marine Sanctuaries Amendments Act of 2000. The Reserve extends approximately 1200 nautical miles long and 100 nautical miles wide. Pursuant to this Act and the Executive Order, NOAA initiated the process to designate the Reserve as a national marine santuary by issuing a notice of intent on January 19, 2001 (66 FR 5509). The public scoping period was announced on March 18, 2002 (67 FR 11996), with a closing date of May 3, 2002. The close of the public scoping period was extended to May 17, 2002 (67 FR 17673). Because of continuing public interest as indicated by the number of comments received during and after the comment period, NOAA is re-opening the comment period until August 6, 2002. Any comments that may have been received between May 17, 2002 and July 22, 2002, will be considered timely filed.

Authority: 16 U.S.C. 1431 et seq., Pub. L. 106-513, (Federal Domestic Assistance Catalog Number 11.429 Marine Sanctuary Program.

Dated: July 16, 2002.
Jamison S. Hawkins,
Deputy Assistant Administrator, for Ocean Services and Coastal Zone Management.

[FR Doc. 02-18447 Filed 7-19-02; 8:45 am]

BILLING CODE 3510-08-M